DEPARTMENT OF HEALTH AND HUMAN SERVICES

Health Resources and Services Administration

Ryan White HIV/AIDS Program Solicitation of Comments

AGENCY: Health Resources and Services Administration (HRSA), HHS.

ACTION: Notice of opportunity to provide written comments.

SUMMARY: This Federal Register Notice solicits comments on Parts A through F of the Ryan White HIV/AIDS Program. Comments are solicited to inform the 2013 reauthorization of the Program, which was most recently reauthorized under Title XXVI of the Public Health Service Act (PHS), as amended by the Ryan White HIV/AIDS Treatment Extension Act of 2009 (Ryan White HIV/AIDS Program). Stakeholders will be invited to share written comments regarding reauthorization of the Ryan White HIV/AIDS Program through the Web portal at www.regulations.gov.

HRSA's HIV/AIDS Bureau will also host listening sessions in the form of teleconferences or webinars to engage stakeholders across the U.S. At least four listening sessions will be conducted, each targeting different geographic areas. The listening sessions will offer stakeholders the opportunity to discuss reauthorization of the Ryan White HIV/AIDS Program.

Listening sessions will be announced as dates are determined. Dates will be announced at http://hab.hrsa.gov/reauthorization/.

DATES: Submit written comments no later than July 31, 2012.

ADDRESSES: Written comments should be submitted on-line through www.regulations.gov. Individuals wishing to submit comments on the Ryan White HIV/AIDS Program should search for the following term: “HRSA-2012-0003.” Navigate directly to the appropriate section at http://hab.hrsa.gov/reauthorization/.

SUPPLEMENTARY INFORMATION: Written comments addressing Parts A through F of the Ryan White HIV/AIDS Program are welcome from all Ryan White stakeholders, including grantees, advocacy organizations, State and local administrators, and other members of the Ryan White HIV/AIDS Program and the HIV/AIDS community. Stakeholders are strongly encouraged to clearly organize comments and include headings to indicate which part of the Ryan White HIV/AIDS Program the comment(s) address(es), such as Parts A, B, C, D or F. For stakeholders who plan to submit comments addressing multiple parts of the Program, it is suggested that comments pertaining to the same part are grouped and that each group of comments is preceded with a heading stating the relevant part of the Program.

To ensure an opportunity for all stakeholders to contribute to regional aspects of disease/epidemic, HRSA recommends that individuals participate in the listening session assigned to their geographic area.

Dated: April 25, 2012.
Mary K. Wakefield,
Administrator.

[FR Doc. 2012-10508 Filed 5-1-12; 8:45 am]

BILLING CODE 4165-15-P